DEPARTMENT OF TRANSPORTATION

Federal Aviation Administration

14 CFR Part 71

[Docket No. FAA-2021-0413; Airspace Docket No. 21-ASW-9]

RIN 2120-AA66

Amendment of Class D and Class E Airspace and Establishment of Class E Airspace; Waco, TX

AGENCY: Federal Aviation Administration (FAA), DOT.

ACTION: Final rule.

SUMMARY: This action amends the Class D and Class E airspace and establishes Class E airspace at airports in Waco, TX. This action is the result of a biennial airspace review. The name and geographic coordinates of various airports are also being updated to coincide with the FAA's aeronautical database.

DATES: Effective 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fr.inspection@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace and Class E surface area airspace at Waco Regional Airport, Waco, TX; establishes Class E surface area airspace at TSTC Waco Airport, Waco, TX; establishes Class E airspace extending upward from 700 feet above the surface at Marlin Airport, Waco, TX; and amends the Class E airspace extending upward from 700 feet above the surface at Waco Regional Airport, TSTC Waco Airport, and McGregor Executive Airport, Waco, to support instrument flight rule operations at these airports.

History

The FAA published a notice of proposed rulemaking in the Federal Register (86 FR 28722; May 28, 2021) for Docket No. FAA-2021-0413 to amend the Class D and Class E airspace and establish Class E airspace at airports in Waco, TX. Interested parties were invited to participate in this rulemaking effort by submitting written comments on the proposal to the FAA. No comments were received.

Class D and E airspace designations are published in paragraph 5000, 6002, and 6005 of FAA Order 7400.11E, dated July 21, 2020, and effective September 15, 2020, which is incorporated by reference in 14 CFR 71.1. The Class D and E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Differences From the NPRM

The verbiage for the extension north of McGregor Executive Airport contained within the Class E airspace extending upward from 700 feet above the surface is being changed from “. . . and within 6 miles each side of the 185° radial from the Waco VORTAC extending from the 6.6-mile radius of McGregor Executive Airport to the Waco VORTAC . . .” to “. . . and within 6 miles each side of the 185° radial from the Waco VORTAC extending from the Waco VORTAC south to the 6.6-mile radius of McGregor Executive Airport . . .” to clarify the airspace description for charting purposes. As the change does not affect the airspace as proposed, it is incorporated into this rule.

The Rule

This amendment to 14 CFR part 71:

Amends the Class D airspace to within a 4.2-mile (decreased from a 4.5-mile) radius of Waco Regional Airport, Waco, TX; adds an extension 1 mile each side of the 149° bearing from the airport extending from the 4.2-mile radius to 4.3 miles southeast of the airport; removes the city associated with the airport to comply with changes to FAA Order 7400.2N, Procedures for Handling Airspace Matters; and replaces the outdated term “Airport/Facility Directory” with “Chart Supplement”;

Amends the Class D airspace legal description at TSTC Waco Airport, Waco, TX, by removing the airport name from the airspace legal description header to comply with changes to FAA Order 7400.2N; removes the city associated with the airport in the airspace legal description to comply with changes to FAA Order 7400.2N; updates the name of the airport (previously TSTC-Waco Airport) to coincide with the FAA's aeronautical database; and replaces the outdated term “Airfield/Facility Directory” with “Chart Supplement”;

Amends the Class E surface area airspace to within a 4.2-mile (decreased from a 4.5-mile) radius of Waco Regional Airport; adds an extension 1 mile each side of the 149° bearing from the airport extending from the 4.2-mile radius to 4.3 miles southeast of the airport; removes the TSTI-Waco Airport, Waco, TX, and the associated airspace from the airspace legal description (A separate airspace legal description is being created to reduce confusion regarding Class D and E service availability at the two airports.); and replaces the outdated term “Airport/Facility Directory” with “Chart Supplement”;

Establishes Class E surface area airspace within a 4.4-mile radius of TSTC Waco Airport;

Establishes Class E airspace extending upward from 700 feet above the surface within a 6.3-mile radius of Marlin Airport, Waco, TX; and within 1.8 miles each side of the 123° radial from the Waco VORTAC extending from the 6.3-mile radius from Marlin Airport to 13.1 miles northwest of the airport;

And amends the Class E airspace extending upward from 700 feet above the surface to within a 6.7-mile (decreased from a 11.5-mile) radius of Waco Regional Airport; removes the extension north of the VORTAC as it is no longer needed; adds an extension 3.7 miles each side of the 014° bearing from the Waco RGNL: RWY 19-LOC extending from the 6.7-mile radius from Waco Regional Airport to 15.3 miles north of the Waco Regional Airport; adds an extension 2.5 miles each side of the 328° radial from the Waco VORTAC extending from the 6.7-mile radius from Waco Regional Airport to 10 miles northwest of the Waco VORTAC; within a 6.9-mile (decreased from a 7.9-mile) radius of TSTC Waco Airport; removes the Leroi NDB and the associated extension as they are no longer needed; adds an extension 1 mile each side of the 179° bearing from the McGregor Executive Airport, Waco, TX, extending from the 6.6-mile radius from McGregor Executive Airport to 6.7-miles south of McGregor Executive Airport; adds an extension 6 miles each side of the 005° radial from the Waco VORTAC extending from the Waco VORTAC to 10 miles north of the Waco VORTAC; adds an extension 6 miles each side of the 185° radial from the Waco VORTAC extending from the Waco VORTAC south to the 6.6 mile radius from the McGregor Executive Airport; removes the Marlin Airport and associated airspace from the airspace legal description as it no longer adjoins this airspace and separate airspace has been established for this airport; and updates the names of Waco Regional Airport (previously Regional Airport), TSTC Waco Airport (previously TSTC-Waco Airport) and McGregor Executive Airport (previously McGregor Municipal Airport) and the geographic coordinates of Waco Regional Airport and the Waco VORTAC to coincide with the FAA's aeronautical database.

These actions are the result of biennial airspace reviews.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ASW TX D Waco, TX [Amended]

Waco Regional Airport, TX

(Lat. 31°36′44″ N, long. 97°13′49″ W)

That airspace extending upward from the surface to and including 3,000 feet MSL within a 4.2-mile radius of Waco Regional Airport, and within 1 mile each side of the 149° bearing from the airport extending from the 4.2-mile radius from the airport to 4.3 miles southeast of the airport. This Class D airspace area is effective during the specific dates in advance by a Notice to Airmen. The effective date and time will thereafter be published in the Chart Supplement.

ASW TX D Waco, TX [Amended]

TSTC Waco Airport, TX

(Lat. 31°38′16″ N, long. 97°04′27″ W)

That airspace extending upward from the surface to and including 3,000 feet MSL within a 4.4-mile radius of TSTC Waco Airport, excluding that airspace within the Waco Regional Airport Class D airspace and Class E surface area airspace. This Class D airspace area is effective during the specific dates and times established in advance by a Notice to Airmen. The effective date and time will thereafter be published in the Chart Supplement.

Paragraph 6002 Class E Airspace Areas Designated as Surface Areas.

* * * * *

ASW TX E2 Waco, TX [Amended]

Waco Regional Airport, TX

(Lat. 31°36′44″ N, long. 97°13′49″ W)

That airspace extending upward from the surface within a 4.2-mile radius of Waco Regional Airport, and within 1 mile each side of the 149° bearing from the airport extending from the 4.2-mile radius from the airport to 4.3 miles southeast of the airport. This Class E airspace area is effective during the specific dates in advance by a Notice to Airmen. The effective date and time will thereafter be published in the Chart Supplement.

ASW TX E2 Waco, TX [Established]

TSTC Waco Airport, TX

(Lat. 31°38′16″ N, long. 97°04′27″ W)

That airspace extending upward from the surface within a 4.4-mile radius of TSTC Waco Airport, excluding that airspace within the Waco Regional Airport Class D airspace and Class E surface area airspace. This Class E airspace area is effective during the specific dates and times established in advance by a Notice to Airmen. The effective date and time will thereafter be published in the Chart Supplement.

Paragraph 6005 Class E Airspace Areas Extending Upward From 700 Feet or More Above the Surface of the Earth.

* * * * *

ASW TX E5 Waco, TX [Established]

Marlin Airport, TX

(Lat. 31°20′26″ N, long. 96°51′07″ W)

That airspace extending upward from 700 feet above the surface within a 6.3-mile radius of Marlin Airport, and within 1.8 miles each side of the 123° radial of the Waco VORTAC extending from the 6.3-mile radius to 13.1 miles northwest of the airport.

ASW TX E5 Waco, TX [Amended]

Waco Regional Airport, TX

(Lat. 31°36′44″ N, long. 97°13′49″ W)

Waco RGNL: RWY 19-LOC

(Lat. 31°36′07″ N, long. 97°13′49″ W)

Waco VORTAC

(Lat. 31°39′44″ N, long. 97°16′08″ W)

TSTC Waco Airport, TX

(Lat. 31°38′16″ N, long. 97°04′27″ W)

McGregor Executive Airport, TX

(Lat. 31°29′06″ N, long. 97°19′00″ W)

That airspace extending upward from 700 feet above the surface within a 6.7-mile radius of Waco Regional Airport, and within 3.7 miles each side of the 014° bearing from the Waco RGNL: RWY 19-LOC extending from the 6.7-mile radius of Waco Regional Airport to 15.3 miles north of Waco Regional Airport, and within 2.5 miles each side of the 328° radial from the Waco VORTAC extending from the 6.7-mile radius of Waco Regional Airport to 10 miles northwest of the Waco VORTAC, and within a 6.9-mile radius of TSTC Waco Airport, and within a 6.6-mile radius of McGregor Executive Airport, and within 1 mile each side of the 179° bearing from the McGregor Executive Airport extending from the 6.6-mile radius of McGregor Executive Airport to 6.7 miles south of McGregor Executive Airport, and within 6 miles each side of the 005° radial from the Waco VORTAC extending from the Waco VORTAC to 10 miles north of the Waco VORTAC, and within 6 miles each side of the 185° radial from the Waco VORTAC extending from the Waco VORTAC south to the 6.6-mile radius of McGregor Executive Airport.

Issued in Fort Worth, Texas, on July 28, 2021.
Martin A. Skinner,
Acting Manager, Operations Support Group, ATO Central Service Center.

[FR Doc. 2021-16393 Filed 8-2-21; 8:45 am]

BILLING CODE 4910-13-P